CORPORATION FOR NATIONAL AND COMMUNITY SERVICE

45 CFR Chapters XII and XXV

Notice Inviting Preliminary Informal Public Input in Advance of Rulemaking

AGENCY: Corporation for National and Community Service.

ACTION: Notice inviting preliminary informal public input in advance of rulemaking.

SUMMARY: The Corporation for National and Community Service (the Corporation) intends to undertake formal rulemaking in 2004, to address significant program and policy issues. The Corporation is initiating this rulemaking pursuant to Congressional interest, expressed in the Consolidated Appropriations Act for 2004, indicating that the Corporation should undertake notice and comment rulemaking for “any significant changes to program requirements or policy.” Congress also states that the Corporation should “increase significantly the level of matching funds and in-kind contributions provided by the private sector,” and “reduce the total Federal costs per participant in all programs.” In addition, the Corporation's Board of Directors has directed the Corporation to consolidate its grant provisions and application guidelines and move them into regulation. Finally, on February 27, 2004, President Bush signed an Executive Order entitled “National and Community Service Programs” in which he expressed his vision of a culture of service, citizenship, and responsibility in the United States, and a strong, accountable, and efficient national and community service field. The Executive Order directs the Corporation to adhere to certain fundamental principles in implementing policies governing national and community service programs authorized by the national service laws, including (1) Supporting and encouraging greater engagement of Americans in volunteering; (2) increasing responsiveness to State and local needs; (3) making Federal support more accountable and effective; and (4) providing greater involvement for faith-based and other community organizations.

The Corporation intends to undertake two rulemaking processes in 2004—the first to address any significant program and policy issues in time for the 2005 AmeriCorps grant cycle, and the second to respond to the Board's directive that we streamline our guidance and incorporate it into regulation. The Corporation believes that these rulemaking processes will improve the impact, efficiency, and cost-effectiveness of national and community service programs, and the quality and transparency of program guidance and rules.

The issues we plan to address through these rulemaking processes include: AmeriCorps grantee sustainability, including the parameters for capacity-building activities by AmeriCorps members and volunteer recruitment; current limitations on the Federal share of costs (match requirements); performance measures and evaluation; qualifications for AmeriCorps members serving as reading tutors and requirements for programs engaged in literacy activities; timing of the AmeriCorps grant cycle; program selection criteria; and the application process for and funding of the second and third years in a three-year grant. In addition, the Corporation intends to undertake formal rulemaking to reorganize the Corporation's current regulations as codified in chapter 25 of title 45 of the Code of Federal Regulations and publish AmeriCorps grant provisions and guidelines in regulation.

To inform the rulemaking process, the Corporation is inviting preliminary informal input from the public concerning the specific issues identified above, as well as any other issues relating to the Corporation's current grant provisions, guidelines, or regulations. The Corporation's current AmeriCorps grant provisions, and the Corporation's regulations are available at http://www.cns.gov/about/ogc/regulations.html, and the Corporation's current AmeriCorps guidelines are posted at http://www.americorps.org/resources/guidelines2004.html. We will accept comments in writing, as described below, or orally in one of four conference calls, and five public input meetings we will hold across the country in March and early April, 2004. The Corporation will not respond to this input, but will consider it in drafting any Notice of Proposed Rulemaking. The public will have a separate opportunity to provide formal comment on any proposed rule the Corporation publishes for comment in 2004 or thereafter. Please note that this Notice does not request comments on individual application forms used under the various programs of the Corporation. The Corporation periodically publishes separate requests for comments concerning such application forms.

DATES: Please submit written input to the Corporation as soon as possible. We will consider input as we begin drafting the Notice of Proposed Rulemaking. In addition, the Corporation will hold five public input meetings across the country, and four conference calls to seek oral input under this Notice. See Supplementary Information for conference call and input meetings information.

ADDRESSES: You may submit written input to the Corporation by any of the following methods:

(1) Electronically through the Corporation's e-mail address system to rulemaking@cns.gov.

(2) By fax to 202-565-2796, Attention Nicola Goren, Associate General Counsel.

(3) By mail sent to: Corporation for National and Community Service, Attn: Nicola Goren, Associate General Counsel, 1201 New York Avenue NW., Room 8209, Washington, DC 20525.

(4) By hand delivery or by courier to the Corporation's mailroom at Room 6010 at the mail address given in paragraph (3) above, between 9 a.m. and 4 p.m. Monday through Friday, except Federal holidays.

Due to continued delays in the Corporation's receipt of mail, we strongly encourage responses via e-mail or fax. You may request this notice in an alternative format for the visually impaired.

FOR FURTHER INFORMATION CONTACT: For further information about the substance of this notice, contact Nicola Goren at 202-606-5000 x.259 (ngoren@cns.gov). For further information about the conference calls and public input meetings, please refer to our Web site at http://www.americorps.org/rulemaking or call Angela Martin at (202) 606-5000 x.448 (amartin@cns.gov). The TDD/TTY number is (800) 833-3722.

SUPPLEMENTARY INFORMATION: For more information on the Corporation, please visit our Web site at http://www.nationalservice.org. When providing oral or written input on the issues outlined above, please especially consider the following questions:

General question: As AmeriCorps continues to grow, what changes can you identify to make the program more efficient and effective?

Sustainability: How can the Corporation ensure that Federal funds are used most effectively to meet community needs? How can the Corporation and the field achieve the right balance of federal and private support? What criteria should the Corporation use to promote sustainability of national and community service programs? To what extent should AmeriCorps members be engaged in fundraising and other capacity-building activities? Should the Corporation limit the number of years for which a program or project may receive funding? To promote grantee sustainability, to what extent should the level of Corporation support for a program or project decrease over time? If the level of Corporation support were to decrease over time, what should be the minimum level of Corporation support? Should the Corporation calibrate sustainability requirements to reflect the differences among the programs, such as size, location, time in operation, or mission? How can the Corporation further support and encourage greater engagement of Americans in volunteering?

Federal share: Should the Corporation calibrate matching requirements to reflect the differences among programs, such as size, location, or track record? How can the Corporation and the field achieve the right balance of federal and private support? Should the Corporation adopt matching requirements for member-related costs that are different from requirements for other program operation costs?

Performance measures and evaluation: How can the Corporation ensure that its grantees are achieving identifiable measurable outcomes? How should the Corporation and its grantees establish appropriate performance measures? How can we identify best practices that merit replication? How can the Corporation ensure that its grantees regularly and effectively evaluate national and community programs?

Qualifications for members serving as reading tutors and requirements for programs engaged in literacy activities: How can we ensure that members serving as reading tutors have the skill and ability to provide the necessary instruction to the populations they serve? How can we ensure that programs engaged in literacy activities achieve reasonable and measurable outcomes?

Timing of grant cycle: For how many months before commencing or continuing a project does a grantee need to know that its application is approved? For how many months before commencing or continuing a project does a grantee need to know that its grant is awarded? What is a reasonable amount of time to prepare an application? Is it useful for the Corporation to have multiple application processes during the course of the year? Does the current cycle work?

Selection Criteria: What criteria should the Corporation use in selecting programs?

Three-year grants: How can the Corporation streamline its grant application process for continuation applications?

Conference Calls and Public Input Meetings

The Corporation is planning five public input meetings across the country and four conference calls in March and early April. Please check our Web site at http://www.americorps.org/rulemaking for further information on dates, times, locations, and other information regarding these conference calls and meetings, or contact Angela Martin at (202) 606-5000 x.448 (amartin@cns.gov).

Dated: March 1, 2004.
Frank R. Trinity,
General Counsel.

[FR Doc. 04-4856 Filed 3-3-04; 8:45 am]

BILLING CODE 6050-$$-P